DEPARTMENT OF THE INTERIOR

Bureau of Land Management

[CO-110]

Notice of Intent To Prepare an Amendment to the White River Field Office Resource Management Plan and Associated Environmental Impact Statement for Oil and Gas Development, Meeker, CO

AGENCY: Bureau of Land Management, Interior.

ACTION: Notice of intent.

SUMMARY: Pursuant to Section 102(2)(c) of the National Environmental Policy Act of 1969 and the Federal Land Policy and Management Act of 1976, notice is hereby given that the Bureau of Land Management (BLM), White River Field Office (WRFO) located in Meeker, CO, will be directing the preparation of a Resource Management Plan (RMP) Amendment and associated Environmental Impact Statement (EIS). The BLM invites the public to participate in this planning effort.

DATES: The scoping comment period will commence with the publication of this notice and will end 45 days after publication of this notice. Public meetings will be held during the scoping comment period in Meeker and Rifle, Colorado. Comments on the scope of the EIS, including concerns, issues, or proposed alternatives that should be considered, should be submitted in writing to the address below. The dates of public meetings to be held in Meeker and Rifle, Colorado will be announced through the local media, newsletters, and WRFO National Environmental Policy Act (NEPA) mailing list. The draft EIS is expected to be available for public review and comment in September 2007 and the final EIS is expected to be available early in 2008.

ADDRESSES: Written comments should be sent to: Jane Peterson, 73554 Highway 64, Meeker, Colorado 81641. Written comments, including names and addresses of respondents, will be available for public review at the offices of the BLM White River Field Office, 73554 Highway 64, Meeker, Colorado 81641, during normal working hours (7:30 a.m. to 4:30 p.m., except holidays). Submissions from organizations or businesses will be made available for public inspection in their entirety. Individuals may request confidentiality with respect to their name, address, and phone number. If you wish to have your name or street address withheld from public review, or from disclosure under the Freedom of Information Act, you must state this prominently at the beginning of your comment. Such requests will be honored to the extent allowed by law. Comment contents will not be kept confidential. Responses to the comments will be published as part of the Proposed Resource Management Plan/Final Environmental Impact Statement.

FOR FURTHER INFORMATION CONTACT: For further information or to have your name added to our mailing list, contact Jane Peterson, WRFO Oil and Gas EIS Project Manager, at (970) 244-3027 or alternately at (970) 878-3828. E-mail can be directed to jane_h_peterson@blm.gov and mail can be sent to the address above.

SUPPLEMENTARY INFORMATION: The RMP Amendment proposes to modify the level of oil and gas development within the WRFO boundaries above what was anticipated in the 1997 WRFO RMP. The EIS will analyze the potential impacts of increased oil and gas development on a field office-wide level. Citizens are requested to help identify issues or concerns and to provide input on BLM's proposed action. The White River Field Office (WRFO), Meeker, Colorado, is located in northwestern Colorado primarily in Rio Blanco County, with other tracts located in Garfield and Moffat Counties and encompasses 1,455,900 acres of BLM surface estate and 365,000 acres of split mineral estate. The WRFO is experiencing unprecedented growth in the oil and gas energy program. The Energy Policy and Conservation Act (EPCA) Reauthorization of 2000 directed the Department of the Interior to produce a scientific inventory of oil and gas resources and reserves underlying Federal lands. The EPCA-generated studies of five oil and gas basins (Montana Thrust Belt, Powder River, Green River, San Juan/Paradox, and Uinta/Piceance), completed and presented to Congress in January, 2003, identified the Piceance Basin of Northwest Colorado, in which the WRFO is located, as one of five sub-basins in the continental United States with large reserves of undeveloped oil and gas energy potential. As a result of EPCA, higher oil and gas prices, and development of interstate transportation pipelines the WRFO is experiencing an oil and gas boom. The WRFO Resource Management Plan (RMP), approved in 1997, projected and analyzed a Reasonable Foreseeable Development (RFD) scenario of 1,100 oil and gas wells, with 10 acres of disturbance per well (including roads and pipelines), over a 20-year period (approximately 55 wells per year). The RFD projected that nearly 2/3 of the oil and gas development activity (or 800 wells) would take place south of Rangely, Colorado with the remaining activity dispersed throughout the remaining field office area. While this projection has been fairly accurate for the activity south of Rangely, the current and projected oil and gas activity in the Piceance Basin may soon far exceed the RFD/EIS impact analysis.

The oil and gas industry has indicated that the potential exists to develop over 13,000 oil and gas wells in the Piceance Basin over the next 20 years. The current WRFO RMP/EIS does not adequately address this projected level of oil and gas development. The BLM has identified some preliminary planning criteria to guide the development of the plan. The following planning criteria have been proposed to guide the development of the plan, to avoid unnecessary data collection and analyses, and to ensure the plan is tailored to issues. Other criteria may be identified during the public scoping process. Proposed planning criteria include the following:

• The plan will comply with all applicable laws, regulations and current policies.

• Broad-based public participation will be an integral part of the planning and EIS process.

• The plan will recognize valid existing rights.

• Environmental protection and energy production are both desirable and necessary objectives of sound land management practices and are not to be considered mutually exclusive priorities

The BLM will analyze the proposed action and no action alternatives, as well as other possible alternatives that could include alternative approaches to mitigation measures and/or conditions of approval for future oil and gas development in the planning area. Alternatives will be further defined as part of the planning process.

Vernon Rholl,
Acting Field Manager.

[FR Doc. E6-9255 Filed 6-13-06; 8:45 am]

BILLING CODE 1610-DN-P